DEPARTMENT OF ENERGY

Federal Energy Regulatory Commission

[Docket No. CP11-50-000]

PetroLogistics Natural Gas Storage Company, LLC; Notice of Intent To Prepare an Environmental Assessment for the Proposed Choctaw Hub Expansion Project and Request for Comments on Environmental Issues

January 25, 2011.

The staff of the Federal Energy Regulatory Commission (FERC or Commission) will prepare an environmental assessment that will discuss the environmental impacts of the Choctaw Hub Expansion Project involving construction and operation of facilities by PetroLogistics Natural Gas Storage Company, LLC (PetroLogistics) in Iberville Parish, Louisiana. This EA will be used by the Commission in its decision-making process to determine whether the project is in the public convenience and necessity.

This notice announces the opening of the scoping process the Commission will use to gather input from the public and interested agencies on the project. Your input will help the Commission staff determine what issues need to be evaluated in the EA. Please note that the scoping period will close on February 24, 2011.

This notice is being sent to the Commission's current environmental mailing list for this project. State and local government representatives are asked to notify their constituents of this planned project and encourage them to comment on their areas of concern.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings where compensation would be determined in accordance with State law.

A fact sheet prepared by the FERC entitled “An Interstate Natural Gas Facility On My Land? What Do I Need To Know?” was attached to the project notice PetroLogistics provided to landowners. This fact sheet addresses a number of typically asked questions, including the use of eminent domain and how to participate in the Commission's proceedings. It is also available for viewing on the FERC Web site (http://www.ferc.gov).

Summary of the Proposed Project

PetroLogistics proposes to construct the Choctaw Hub Expansion Project facilities consisting of two converted salt dome caverns and new pipeline, compression and meter station interconnect facilities. These facilities would be constructed in or adjacent to PetroLogistics' existing natural gas storage and pipeline facilities located 4 miles northwest of the City of Plaquemine in Iberville Parish, Louisiana. PetroLogistics would operate these high-deliverability, multi-cycle natural gas storage facilities in order to increase the total working capacity of the Choctaw Hub from 16 billion cubic feet (bcf) to 33.9 bcf. According to PetroLogistics, this project would increase PetroLogistics' ability to provide firm and interruptible storage and hub services in the Gulf Coast region.

The Choctaw Hub Expansion Project would consist of the following facilities:

• Conversion, into gas storage caverns, of existing Cavern No. 28, currently used for commercial brine service and existing Cavern No. 102, currently used for liquid-ethylene storage service;

• 13-mile-long 30-inch-diameter Expansion Header Pipeline looping PetroLogistics' existing pipelines; ¹

¹ A pipeline loop is constructed parallel to an existing pipeline to increase capacity.

• two compressor units totaling 27,000 horsepower at the existing PetroLogistics Compressor Station;

• 0.67-mile-long 30-inch-diameter cavern injection/withdrawal pipeline (30-Inch Compressor Station Pipeline) from the proposed Compressor Station Expansion to Cavern 28;

• 0.66-mile-long 16-inch-diameter cavern injection/withdrawal pipeline extending from the 30-Inch Compressor Station pipeline at Cavern 28 to the well head at Cavern 10;

• 300-foot-long 10-inch-diameter cavern injection/withdrawal pipeline extending from the 30-Inch Compressor Station pipeline to the existing certificated Cavern 24;

• 0.90-mile-long 20-inch-diameter pipeline and expansion of the Texas Eastern Transmission Company Meter Station Interconnect;

• 0.23 acre expansion of the meter station interconnect to Bridgeline Pipeline Company;

• 0.23 acre expansion of the meter station interconnect to Southern Natural Gas Company;

• meter station interconnects to Florida Gas Transmission Company, LLC and CrossTex LIG Pipeline Company;

• side valves on the Expansion Header Pipeline for future lateral interconnects; and

• 5.5 acre non-jurisdictional electrical substation and 1,460 feet of overhead conductor lines to increase the existing electrical service lines to 69 kilovolt amperes supply capability.

The general location of the project facilities is shown in appendix 1.²

² The appendices referenced in this notice are not being printed in the Federal Register. Copies of appendices were sent to all those receiving this notice in the mail and are available at http://www.ferc.gov using the link called “eLibrary” or from the Commission's Public Reference Room, 888 First Street NE., Washington, DC 20426, or call (202) 502-8371. For instructions on connecting to eLibrary, refer to the last page of this notice.

Land Requirements for Construction

Construction of the proposed facilities would require disturbance of 131 acres of land. This total would include 65 acres under existing permanent easement right-of-way, 17 acres to be added as new permanent easement (and ownership of aboveground facilities), and 49 acres as temporary construction right-of-way that would be restored to previous land use following construction. PetroLogistics would use a 75-foot-wide construction right-of-way with a 10 to 40-foot temporary right-of-way width for the installed pipeline. About 45 percent of the proposed pipelines would parallel existing pipeline, utility, or road rights-of-way.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this notice, the Commission requests public comments on the scope of the issues to address in the EA. All comments received will be considered during the preparation of the EA.

³ “We”, “us”, and “our” refer to the environmental staff of the Commission's Office of Energy Projects.

In the EA we will discuss impacts that could occur as a result of the construction and operation of the proposed project under these general headings:

• Geology and soils,

• Water resources,

• Wetlands and fisheries,

• Vegetation and wildlife, including migratory birds,

• Threatened and endangered species,

• Land use,

• Cultural resources,

• Air quality and noise,

• Reliability and safety, and

• Cumulative impacts.

We will also evaluate reasonable alternatives to the proposed project or portions of the project, and make recommendations on how to lessen or avoid impacts on the various resource areas.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section below.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before February 24, 2011.

For your convenience, there are three methods which you can use to submit your comments to the Commission. In all instances please reference the project docket number (CP11-050-000) with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Environmental Mailing List

The environmental mailing list includes Federal, State, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If the EA is published for distribution, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at (866) 208-FERC, or on the FERC Web site at http://www.ferc.gov using the “eLibrary” link. Click on the eLibrary link, click on “General Search” and enter the docket number, excluding the last three digits in the Docket Number field (i.e., CP11-50). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2011-2139 Filed 1-31-11; 8:45 am]

BILLING CODE 6717-01-P